INTERNATIONAL TRADE COMMISSION

[Investigation Nos. 701-TA-451 and 731-TA-1126-1127 (Review)]

Lightweight Thermal Paper From China And Germany; Determination

On the basis of the record ¹ developed in the subject five-year reviews, the United States International Trade Commission (“Commission”) determines, pursuant to section 751(c) of the Tariff Act of 1930 (19 U.S.C. 1675(c)), that revocation of the countervailing duty order and antidumping duty order on lightweight thermal paper from China would be likely to lead to continuation or recurrence of material injury to an industry in the United States within a reasonably foreseeable time. The Commission further determines that revocation of the antidumping duty order on lightweight thermal paper from Germany would not be likely to lead to continuation or recurrence of material injury to an industry in the United States within a reasonably foreseeable time.

¹ The record is defined in sec. 207.2(f) of the Commission's Rules of Practice and Procedure (19 CFR 207.2(f)).

Background

The Commission instituted these reviews on October 1, 2013 (78 FR 60313) and determined on January 23, 2014 that it would conduct full reviews (79 FR 6218, February 3, 2014). Notice of the scheduling of the Commission's review and of a public hearing to be held in connection therewith was given by posting copies of the notice in the Office of the Secretary, U.S. International Trade Commission, Washington, DC, and by publishing the notice in the Federal Register on June 27, 2014 (79 FR 36557). The hearing was held in Washington, DC, on October 30, 2014, and all persons who requested the opportunity were permitted to appear in person or by counsel.

The Commission completed and filed its determinations in these reviews on January 16, 2015. The views of the Commission are contained in USITC Publication 4511 (January 2015), entitled Lightweight Thermal Paper from China and Germany: Investigation Nos. 701-TA-451 and 731-TA-1126-1127 (Review).

By order of the Commission.
Issued: January 15, 2015.
Lisa R. Barton,
Secretary to the Commission.

[FR Doc. 2015-00948 Filed 1-21-15; 8:45 am]

BILLING CODE 7020-02-P